DEPARTMENT OF ENERGY

Federal Energy Regulatory Commission

[Docket No. RP00-18-003]

Natural Gas Pipeline Company of America; Notice of Compliance Filing

January 21, 2000.

Take notice that on January 14, 2000, National Gas Pipeline Company of America (Natural) tendered for filing to be a part of its FERC Gas Tariff, Sixth Revised Volume No. 1, Second Revised Sheet No. 224J.02, to be effective November 4, 1999.

Natural states that its filed the above tariff sheet in compliance with the Office of Pipeline Regulation letter order issued January 5, 2000 in Docket No. RP00-18-001.

Natural requested any waivers which may be required to permit Second Revised Sheet No. 224J.02 to become effective November 4, 1999, consistent with the Federal Energy Regulatory Commission's “Order on Complaint” issued November 4, 1999 in Docket No. RP00-18-000.

Natural states that copies of the filing have been mailed to its customers, interested state regulatory agencies and all parties set out on the official service lists in Docket Nos. RP99-176 and RP00-18.

Any person desiring to protest in this filing should file a protest with the Federal Energy Regulatory Commission, 888 First Street, N.E., Washington, D.C. 20426, in accordance with Section 385.211 of the Commission’s Rules and Regulations. All such protests must be filed as provided in Section 154.210 of the Commission’'s Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

David P. Boergers,
Secretary.

[FR Doc. 00-1952 Field 1-26-00; 8:45 am]

BILLING CODE 6717-01-M